DEPARTMENT OF LABOR

Employment and Training Administration

[TA-W-52,574]

Waggoner/Parker Fisheries, Kenai, AK; Dismissal of Application for Reconsideration

Pursuant to 29 CFR 90.18(C) an application for administrative reconsideration was filed with the Director of the Division of Trade Adjustment Assistance for workers at Waggoner/Parker Fisheries, Kenai, Alaska. The application contained no new substantial information which would bear importantly on the Department's determination. Therefore, dismissal of the application was issued.

TA-W-52,574; Waggoner/Parker Fisheries, Kenai, Alaska (December 31, 2003)

Signed at Washington, DC this 14th day of January 2004.
Timothy Sullivan,
Director, Division of Trade Adjustment Assistance.

[FR Doc. 04-1434 Filed 1-22-04; 8:45 am]

BILLING CODE 4510-30-P